DEPARTMENT OF THE INTERIOR

U.S. Geological Survey

Agency Information Collection Activities: Comment Request

AGENCY: U.S. Geological Survey (USGS), Interior.

ACTION: Notice of an extension of an information collection (1028-0079).

SUMMARY: To comply with the Paperwork Reduction Act of 1995 (PRA), we are notifying the public that we will submit to OMB an information collection request (ICR) to renew approval of the paperwork requirements for “North American Breeding Bird Survey, (1 USGS form).” This notice provides the public an opportunity to comment on the paperwork burden of this form.

DATES: Submit written comments by May 19, 2008.

ADDRESSES: You may submit comments on this information collection to the Department of the Interior, USGS, via:

• E-mail: atravnic@usgs.gov. Use Information Collection Number 1028-0079 in the subject line.

• FAX: (703) 648-7069. Use Information Collection Number 1028-0079 in the subject line.

• Mail or hand-carry comments to the Department of the Interior; USGS Clearance Officer, U.S. Geological Survey, 807 National Center, Reston, VA 20192. Please reference Information Collection 1028-8-0079 in your comments.

FOR FURTHER INFORMATION CONTACT: Keith L. Pardieck at (301) 497-5843.

SUPPLEMENTARY INFORMATION: Title: North American Breeding Bird Survey.

OMB Control Number: 1028-0079.

Form Number: 840.

Abstract: Respondents supply the U.S. Geological Survey with avian population data for more than 600 North American bird species. The raw survey data, resulting population trend estimates, and relative abundance estimates will be made available via the Internet and through special publications, for use by Government agencies, industry, education programs, and the general public.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Frequency: Annually.

Estimated Number and Description of Respondents: Approximately 1,500 individuals skilled in avian identification will participate.

Estimated Number of Responses: 2500.

Annual burden hours: 27,500.

Estimated Annual Reporting and Recordkeeping “Hour” Burden: The currently approved “hour” burden for this form is 12,500 hours. We estimate the public reporting burden averages 11 hours per response. This includes the time for reviewing instructions, gathering and maintaining data, and completing and reviewing the information.

Estimated Reporting and Recordkeeping “Non-Hour Cost” Burden: Mileage costs are on average $44.85 per response. This includes an approximate 100-mile round trip for data collection.

Public Disclosure Statement: The PRA (44 U.S.C. 3501, et seq.) provides that an agency may not conduct or sponsor, and you are not required to respond to, a collection of information unless it displays a currently valid OMB control number. Until OMB approves a collection of information, you are not obligated to respond.

Comments: Before submitting an ICR to OMB, PRA section 3506(c)(2)(A) (44 U.S.C. 3501, et seq.) requires each agency“ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we publish this Federal Register notice announcing that we will submit this ICR to OMB for approval. The notice provided the required 60-day public comment period.

USGS Information Collection Clearance Officer: Alfred Travnicek, 703-648-7231.

Dated: March 12, 2008.
Susan D. Haseltine,
Associate Director of Biology.

[FR Doc. E8-5447 Filed 3-18-08; 8:45 am]

BILLING CODE 4311-AM-M